DEPARTMENT OF COMMERCE

National Oceanic and Atmospheric Administration

[RTID 0648-XA480]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to federal and state travel restrictions and updated guidance from the Centers for Disease Control and Prevention related to COVID-19, this meeting will be conducted entirely by webinar.

DATES: The webinar meeting will be held on Tuesday, Wednesday, and Thursday, September 29, September 30, and October 1, 2020, beginning at 9 a.m. on September 29 and 8:30 a.m. on September 30 and October 1.

ADDRESSES: All meeting participants and interested parties can register to join the webinar at https://register.gotowebinar.com/register/5172076717962269709.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, September 29, 2020

After introductions and brief announcements, NMFS's Regional Administrator for the Greater Atlantic Regional Fisheries Office (GARFO) will swear in new and reappointed Council members. The Council then will conduct its 2020-21 election of officers. Reports on recent activities will be next. The Council will hear from its Chairman and Executive Director, GARFO's Regional Administrator, liaisons from the Northeast Fisheries Science Center (NEFSC) and Mid-Atlantic Fishery Management Council, staff from the Atlantic States Marine Fisheries Commission (ASMFC), and representatives from NOAA General Counsel, NOAA's Office of Law Enforcement, the U.S. Coast Guard, the Northeast Trawl Advisory Panel (NTAP), the Northwest Atlantic Fisheries Organization (NAFO), the NMFS Highly Migratory Species Advisory Panel, and the South Atlantic Council's Dolphin/Wahoo Advisory Panel. The Skate Committee Report will follow. The Council will receive: (1) A presentation on the Skate Annual Monitoring Report covering fishing year 2019; and (2) a progress report on Amendment 5 to the Northeast Skate Complex Fishery Management Plan (FMP). This update will focus on the development of a problem statement, goals, and objectives for potentially developing a limited access program through Amendment 5. Members of the public then will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf.

Following the lunch break, the Council will receive a report from the Northeast Fisheries Science Center on the peer review of the Spring 2020 Management Track Stock Assessments for Atlantic herring, longfin squid, butterfish, and surfclams and ocean quahogs. The Scientific and Statistical Committee (SSC) then will present its recommendations for overfishing limits (OFLs) and acceptable biological catches (ABCs) for the 2021-2023 Atlantic herring fishing years. The Atlantic Herring Committee report will be next with three items: (1) The Council will take final action on Framework Adjustment 8, which includes 2021-2023 specifications for the herring fishery and adjusts measures in the Atlantic Herring FMP that may inhibit the Atlantic mackerel fishery from achieving optimum yield; (2) the Council will receive an update on Framework Adjustment 7, which is an action under development to protect spawning herring on Georges Bank; and (3) the Council will receive an update on discussions related to the coordination of Atlantic herring management between the Council and ASMFC. GARFO then will update the Council on the status of the North Atlantic Right Whale Draft Biological Opinion and upcoming rulemaking. The Council may discuss these issues and offer comments to the agency. After that, the Council will adjourn for the day.

At 6 p.m. or shortly following the close of Council business, the U.S. International Trade Commission (USITC) will host a virtual roundtable to gather input from New England fishermen and other industry stakeholders on two topics: (1) The impacts of illegal, unreported, and unregulated (IUU) fishing on the U.S. fishing industry; and (2) the impacts of seafood imports on U.S. products and markets. All stakeholders, including those from the Mid-Atlantic, are encouraged to join the discussion. No preregistration is needed. A link to the webinar will be forthcoming and posted on the Council website.

Wednesday, September 30, 2020

The Council will begin the day with Part 1 of a three-part Groundfish Committee report. Part 1 will focus on Amendment 23 to the Northeast Multispecies FMP, commonly referred to as the groundfish monitoring amendment. The Council will review all written and oral comments received during the public comment period on this amendment and then take final action on measures to improve the accuracy and accountability of catch reporting in the commercial groundfish fishery, including the level of at-sea monitoring coverage to be required on groundfish sector trips, among other actions.

Following the lunch break, the Council will continue its discussion on Groundfish Monitoring Amendment 23. When business on the amendment is complete, the Council will take up Part 2 of the Groundfish Committee Report regarding a petition for rulemaking for Atlantic cod. The Council will receive input from its Groundfish Committee, Groundfish Advisory Panel, and Recreational Advisory Panel and then discuss the petition and potential next steps. After that, the Council will: (1) Receive a report from the Transboundary Resources Assessment Committee (TRAC) on 2020 assessment results for Eastern Georges Bank cod, Eastern Georges Bank haddock, and Georges Bank yellowtail flounder; and (2) review and approve Transboundary Management Guidance Committee (TMGC) recommendations for 2021 total allowable catches for those three shared U.S./Canada stocks on Georges Bank. Next, the Council will receive SSC recommendations for OFLs and ABCs for Georges Bank yellowtail flounder for fishing years 2021 and 2022, as well as SSC input on possible rebuilding approaches for white hake. Finally, the Council will take up Part 3 of the Groundfish Committee report, which will focus on Framework Adjustment 61 to the Northeast Multispecies FMP. The framework includes: (1) 2021 total allowable catches for U.S./Canada stocks on Georges Bank; (2) 2021-23 specifications for roughly half of the U.S. groundfish stocks; (3) white hake rebuilding provisions; and (4) other measures. The Council also will take action on Georges Bank yellowtail OFLs and ABCs for Framework 61 before it adjourns for the day.

Thursday, October 1, 2020

The Council will begin the day by receiving a short update from the Habitat Committee on offshore wind development activities. Then it will take up the Scallop Committee report. The Council will review recent public hearing comments on Amendment 21 to the Atlantic Sea Scallop FMP, which includes measures that address: (1) Northern Gulf of Maine Management Area issues, (2) the Limited Access General Category (LAGC) possession limit, and (3) individual fishing quota (IFQ) transfers. The Council will take final action on this amendment. The Council also will receive a preliminary overview of 2020 scallop survey work and a progress report on Framework Adjustment 33, which will include 2021 fishing year specifications and 2022 default specifications, along with other measures.

Following the lunch break, the Council will hear from its Ecosystem-Based Fishery Management (EBFM) Committee. First, the Council will review and approve EBFM public outreach materials produced by Green Fin Studio, including stakeholder profiles, brochures, two completed infographics, presentations, an introductory video, and other outreach tools. Second, the Council will hear the committee's recommendations and approve a format for conducting EBFM workshops using the Council's example Fishery Ecosystem Plan (eFEP) for Georges Bank, along with the new public outreach materials. Third, the Council will receive a presentation on tangible worked examples developed by the Plan Development Team to demonstrate the eFEP catch framework for Georges Bank. Next, the Council will hear from the Stellwagen Bank National Marine Sanctuary (SBNMS) staff, which will present two pre-COVID0919 economic reports supporting the SBNMS Management Plan Review: (1) A fisheries report analyzing commercial fishing and recreational for-hire fishing activity within SBNMS and the economic contributions of these activities; and (2) a whale watching report summing up data and economic contribution. After that, the Council will begin its initial discussion on 2021 Council Priorities, including identification of potential actions that respond to the May 7, 2020 Executive Order on Promoting American Seafood Competitiveness and Economic Growth. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: September 9, 2020.
Tracey L. Thompson,
Acting Deputy Director, Office of Sustainable Fisheries, National Marine Fisheries Service.

[FR Doc. 2020-20208 Filed 9-11-20; 8:45 am]

BILLING CODE 3510-22-P